FEDERAL COMMUNICATIONS COMMISSION

47 CFR Part 64

[CC Docket No. 96-115; FCC 99-223]

Telecommunications Carriers' Use of Customer Proprietary Network Information and Other Customer Information

AGENCY: Federal Communications Commission.

ACTION: Final rule; announcement of effective date.

SUMMARY: The Commission's amendments to its customer proprietary network information (CPNI) rules, which contained information collection requirements, became effective on March 2, 2000.

EFFECTIVE DATES: The amendments to §§ 64.2005, 64.2007 and 64.2009 became effective on March 2, 2000.

FOR FURTHER INFORMATION CONTACT: Jodie Donovan, Attorney Adviser, Common Carrier Bureau, Policy and Program Planning Division, (202) 418-1580.

SUPPLEMENTARY INFORMATION: On August 16, 1999, the Commission adopted amended rules, pursuant to section 222 of the Communications Act, to protect CPNI and ensure that customers are able to control their personal information from unauthorized use, disclosure and access by common carriers. A summary of these amendments was published in the Federal Register (64 FR 53242, October 1, 1999). Because the rules imposed new information collection requirements that had not been approved by OMB, we stated that “the Commission will publish a document in the Federal Register announcing the effective dates of these rules.” The information collection requirements were approved by OMB on March 2, 2000. See OMB Nos. 3060-0715. Due to an oversight, the Commission failed to publish notice of OMB approval earlier, but we have treated the amendments as effective since March 2, 2000, as anticipated by our order. See Implementation of the Telecommunications Act of 1996, Telecommunications Carriers Use of Customer Proprietary Network Information and Other Customer Information and Implementation of the Non-Accounting Safeguards of section 271 and 272 of the Communications Act of 1934, as Amended, CC Docket Nos. 96-115 and 96-149, 14 FCC Rcd 14409, 14509, para. 207 (1999). This publication therefore satisfies the statement that the Commission would publish a document announcing the effective date of the rules.

List of Subjects on 47 CFR Part 64

Communications common carriers, Reporting and recordkeeping requirements, Telephone.

Federal Communications Commission.
Magalie R. Salas,
Secretary.

[FR Doc. 01-2151 Filed 1-25-01; 8:45 am]

BILLING CODE 6712-01-P